DEPARTMENT OF LABOR

Mine Safety and Health Administration

30 CFR Part 3

OMB Control Numbers Under the Paperwork Reduction Act

AGENCY: Mine Safety and Health Administration (MSHA), Labor.

ACTION: Final rule; technical amendment.

SUMMARY: This technical amendment updates MSHA's listing of Office of Management and Budget (OMB) control numbers for the Agency's standards and regulations. MSHA is prohibited from conducting a collection of information unless the Agency displays a currently valid OMB control number. This consolidated listing assists the public in searching for current MSHA standards and regulations that include information collection, recordkeeping, and reporting requirements approved by OMB under the Paperwork Reduction Act of 1995.

DATES: Effective Date: June 30, 2008.

FOR FURTHER INFORMATION CONTACT: Patricia W. Silvey, Director; Office of Standards, Regulations, and Variances, MSHA at silvey.patricia@dol.gov (E-mail); 202-693-9440 (Voice); 202-693-9441 (Facsimile).

SUPPLEMENTARY INFORMATION: MSHA first consolidated the listing of OMB control numbers in a final rule published on June 29, 1995 (60 FR 33719). This action codified the OMB control numbers for MSHA standards and regulations in one location to assist the public in quickly determining whether OMB has approved a specific information collection requirement. Table 1 in 30 CFR 3.1 displays the OMB control number for each section containing a requirement for the collection, reporting, recordkeeping, or dissemination of information.

MSHA is prohibited from conducting a collection of information unless it displays a currently valid OMB control number and informs potential responders that they are not required to respond unless the collection of information displays a currently valid OMB control number. By publishing this list, MSHA is following the recommendation of OMB pursuant to 5 CFR 1320.3(f)(3) and 1320.5(b)(2)(ii)(C) that, even where an agency has already provided the above information “in a manner reasonably calculated to inform the public,” the agency should also “publish such information along with a table or codified section of OMB control numbers to be included in the Code of Federal Regulations.”

This revision updates MSHA's current list of OMB control numbers to include new control numbers approved by OMB for standards and regulations completed since the last update and any changes made through the renewal of previously issued OMB control numbers.

Information collection requirements go through the public review process, including notice and comment, as part of the rule to which they apply. Likewise, the renewal of an OMB control number also requires public review. As a result, MSHA finds that it is unnecessary to have further public notice and comment and that, therefore, there is “good cause” under 5 U.S.C. 553(b)(3)(B) of the Administrative Procedure Act (APA) to issue this technical amendment to Table 1 in 30 CFR part 3 without prior public notice and comment.

MSHA also determined that it is unnecessary to delay the effective date. This technical amendment contains no new requirements for which the public would need time to plan compliance, beyond that provided for in the regulation itself. MSHA finds, therefore, that there is “good cause” to except this action from the 30-day delayed effective date requirement under 5 U.S.C. 553(d)(3) of the APA.

List of Subjects in 30 CFR Part 3

Mine safety and health, Reporting and recordkeeping requirements.

Patricia W. Silvey,
Director, Office of Standards, Regulations and Variances.

Accordingly, under the authority of 30 U.S.C. 957, chapter I of title 30, Code of Federal Regulations is amended as set forth below.

PART 3—[AMENDED]

1. The authority citation for part 3 continues to read as follows:

Authority: 30 U.S.C. 957; 44 U.S.C. 3501-3520.

§ 3.1 [Amended]

2. Amend § 3.1 by revising Table 1 to read as follows:

* * * * *

Table 1.—OMB Control Numbers
30 CFR Citation | OMB Control No.
Subchapter B—Testing, Evaluation, and Approval of Mining Products
6.10 | 1219-0066
7.3 | 1219-0066
7.4 | 1219-0066
7.6 | 1219-0066
7.7 | 1219-0066
7.23 | 1219-0066
7.27 | 1219-0066
7.28 | 1219-0066
7.29 | 1219-0066
7.30 | 1219-0066
7.43 | 1219-0066
7.46 | 1219-0066
7.47 | 1219-0066
7.48 | 1219-0066
7.49 | 1219-0066
7.51 | 1219-0066
7.63 | 1219-0066
7.69 | 1219-0066
7.71 | 1219-0066
7.83 | 1219-0066
7.90 | 1219-0066
7.97 | 1219-0066
7.105 | 1219-0066
7.108 | 1219-0066
7.303 | 1219-0066
7.306 | 1219-0066
7.309 | 1219-0066
7.311 | 1219-0066
7.403 | 1219-0066
7.407 | 1219-0066
7.408 | 1219-0066
7.409 | 1219-0066
7.411 | 1219-0066
15.4 | 1219-0066
15.8 | 1219-0066
18.6 | 1219-0066
18.15 | 1219-0066
18.53 | 1219-0066, -0116
18.81 | 1219-0066
18.82 | 1219-0066
18.93 | 1219-0066
18.94 | 1219-0066
19.3 | 1219-0066
19.13 | 1219-0066
20.3 | 1219-0066
20.14 | 1219-0066
22.4 | 1219-0066
22.8 | 1219-0066
22.11 | 1219-0066
23.3 | 1219-0066
23.7 | 1219-0066
23.10 | 1219-0066
23.12 | 1219-0066
23.14 | 1219-0066
27.4 | 1219-0066
27.6 | 1219-0066
27.11 | 1219-0066
28.10 | 1219-0066
28.23 | 1219-0066
28.25 | 1219-0066
28.30 | 1219-0066
28.31 | 1219-0066
33.6 | 1219-0066
33.12 | 1219-0066
35.6 | 1219-0066
35.10 | 1219-0066
35.12 | 1219-0066
36.6 | 1219-0066
36.12 | 1219-0066
Subchapter G—Filing and Other Administrative Requirements
40.3 | 1219-0042
40.4 | 1219-0042
40.5 | 1219-0042
41.20 | 1219-0042
43.4 | 1219-0014
43.7 | 1219-0014
44.9 | 1219-0065
44.10 | 1219-0065
44.11 | 1219-0065
45.3 | 1219-0040
45.4 | 1219-0040
Subchapter H—Education and Training
46.3 | 1219-0131
46.5 | 1219-0131
46.6 | 1219-0131
46.7 | 1219-0131
46.8 | 1219-0131
46.9 | 1219-0131
46.11 | 1219-0131
47.31 | 1219-0133
47.32 | 1219-0133
47.32(a)(4) | 1219-0133
47.41 | 1219-0133
47.51 | 1219-0133
47.71 | 1219-0133
47.73 | 1219-0133
48.3 | 1219-0009, -0141
48.9 | 1219-0009
48.23 | 1219-0009
48.29 | 1219-0009
49.2 | 1219-0078
49.3 | 1219-0078
49.4 | 1219-0078
49.6 | 1219-0078
49.7 | 1219-0078
49.8 | 1219-0078
49.9 | 1219-0078
49.12 | 1219-0144
49.16 | 1219-0144
49.18 | 1219-0144
49.50 | 1219-0144
Subchapter I—Accidents, Injuries, Illnesses, Employment, and Production in Mines
50.10 | 1219-0007, -0141
50.11 | 1219-0007, -0141
50.20 | 1219-0007
50.30 | 1219-0007
Subchapter K—Metal and Nonmetal Mine Safety and Health
56.1000 | 1219-0042
56.3203(a) | 1219-0121
56.5005 | 1219-0048
56.13015 | 1219-0089
56.13030 | 1219-0089
56.14100 | 1219-0089
56.18002 | 1219-0089
56.19022 | 1219-0034
56.19023 | 1219-0034
56.19057 | 1219-0049
56.19121 | 1219-0034
57.1000 | 1219-0042
57.3203(a) | 1219-0121
57.3461 | 1219-0097
57.5005 | 1219-0048
57.5037 | 1219-0003
57.5040 | 1219-0003
57.5047 | 1219-0039
57.5060 | 1219-0135
57.5065 | 1219-0135
57.5066 | 1219-0135
57.5067 | 1219-0135
57.5070 | 1219-0135
57.5071 | 1219-0135
57.5075 | 1219-0135
57.8520 | 1219-0016
57.8525 | 1219-0016
57.11053 | 1219-0046
57.13015 | 1219-0089
57.13030 | 1219-0089
57.14100 | 1219-0089
57.18002 | 1219-0089
57.19022 | 1219-0034
57.19023 | 1219-0034
57.19057 | 1219-0049
57.19121 | 1219-0034
57.22004(c) | 1219-0103
57.22204 | 1219-0030
57.22229 | 1219-0103
57.22230 | 1219-0103
57.22231 | 1219-0103
57.22239 | 1219-0103
57.22401 | 1219-0096
57.22606 | 1219-0095
Subchapter M—Uniform Mine Health Regulations
62.110 | 1219-0120
62.130 | 1219-0120
62.170 | 1219-0120
62.171 | 1219-0120
62.172 | 1219-0120
62.173 | 1219-0120
62.174 | 1219-0120
62.175 | 1219-0120
62.180 | 1219-0120
62.190 | 1219-0120
Subchapter O—Coal Mine Safety and Health
70.201(c) | 1219-0011
70.202(b) | 1219-0011
70.204 | 1219-0011
70.209 | 1219-0011
70.210 | 1219-0011
70.220 | 1219-0011
70.220(a) | 1219-0011
71.201(c) | 1219-0011
71.202(b) | 1219-0011
71.204 | 1219-0011
71.209 | 1219-0011
71.210 | 1219-0011
71.220 | 1219-0011
71.220(a) | 1219-0011
71.300 | 1219-0011
71.301 | 1219-0011
71.301(d) | 1219-0011
71.403 | 1219-0024
71.404 | 1219-0024
72.500 | 1219-0124
72.503 | 1219-0124
72.510 | 1219-0124
72.520 | 1219-0124
75.100 | 1219-0127
75.153(a)(2) | 1219-0001
75.155 | 1219-0127
75.159 | 1219-0127
75.160 | 1219-0127
75.161 | 1219-0127
75.204(a) | 1219-0121
75.215 | 1219-0004
75.220 | 1219-0004
75.221 | 1219-0004
75.222 | 1219-0004
75.223 | 1219-0004
75.310 | 1219-0088
75.312 | 1219-0088
75.335 | 1219-0142
75.336 | 1219-0142
75.337 | 1219-0142
75.338 | 1219-0142
75.342 | 1219-0088
75.350 | 1219-0138
75.351 | 1219-0088, -0116, -0138
75.352 | 1219-0138
75.360 | 1219-0088
75.361 | 1219-0088
75.362 | 1219-0088
75.363 | 1219-0088
75.364 | 1219-0088
75.370 | 1219-0088
75.371 | 1219-0088, -0138
75.372 | 1219-0073
75.373 | 1219-0073
75.382 | 1219-0088
75.512 | 1219-0116
75.703 | 1219-0116
75.703-3 | 1219-0116
75.800 | 1219-0116
75.800-4 | 1219-0116
75.820 | 1210-0116
75.821 | 1219-0116
75.900 | 1219-0116
75.900-4 | 1219-0116
75.1001-1 | 1219-0116
75.1100-3 | 1219-0054
75.1103-8 | 1219-0054
75.1103-11 | 1219-0054
75.1200 | 1219-0073
75.1200-1 | 1219-0073
75.1201 | 1219-0073
75.1202 | 1219-0073
75.1202-1 | 1219-0073
75.1203 | 1219-0073
75.1204 | 1219-0073
75.1204-1 | 1219-0073
75.1321 | 1219-0025
75.1327 | 1219-0025
75.1400-2 | 1219-0034
75.1400-4 | 1219-0034
75.1432 | 1219-0034
75.1433 | 1219-0034
75.1501 | 1219-0054
75.1502 | 1219-0054, -0141
75.1504 | 1219-0141
75.1505 | 1219-0141
75.1702 | 1219-0041
75.1712-4 | 1219-0024
75.1712-5 | 1219-0024
75.1713-1 | 1219-0078
75.1714-3 | 1219-0141
75.1714-3(e) | 1219-0044
75.1714-4 | 1219-0044
75.1714-5 | 1219-0141
75.1714-8 | 1219-0141
75.1716 | 1219-0020
75.1716-1 | 1219-0020
75.1716-3 | 1219-0020
75.1721 | 1219-0073
75.1901 | 1219-0119
75.1904 | 1219-0119
75.1911 | 1219-0119
75.1912 | 1219-0119
75.1914 | 1219-0119
75.1915 | 1219-0119, -0124
77.100 | 1219-0127
77.103(a)(2) | 1219-0001
77.105 | 1219-0127
77.106 | 1219-0127
77.107 | 1219-0127
77.107-1 | 1219-0127
77.215 | 1219-0015
77.215-2 | 1219-0015
77.215-3 | 1219-0015
77.215-4 | 1219-0015
77.216-2 | 1219-0015
77.216-3 | 1219-0015
77.216-4 | 1219-0015
77.216-5 | 1219-0015
77.502 | 1219-0116
77.800 | 1219-0116
77.800-2 | 1219-0116
77.900 | 1219-0116
77.900-2 | 1219-0116
77.1000 | 1219-0026
77.1000-1 | 1219-0026
77.1101 | 1219-0051
77.1200 | 1219-0073
77.1201 | 1219-0073
77.1202 | 1219-0073
77.1404 | 1219-0034
77.1432 | 1219-0034
77.1433 | 1219-0034
77.1702 | 1219-0078
77.1713 | 1219-0083
77.1900 | 1219-0019
77.1901 | 1219-0082
77.1906 | 1219-0034
77.1909-1 | 1219-0025
90.201(c) | 1219-0011
90.202(b) | 1219-0011
90.204 | 1219-0011
90.209 | 1219-0011
90.220 | 1219-0011
90.300 | 1219-0011
90.301 | 1219-0011
90.301(d) | 1219-0011

[FR Doc. E8-14619 Filed 6-27-08; 8:45 am]

BILLING CODE 4510-43-P